FEDERAL COMMUNICATIONS COMMISSION

47 CFR Parts 2 and 25

[IB Docket No. 16-408; Report No. 3084]

Petitions for Reconsideration of Action in Rulemaking Proceeding

AGENCY: Federal Communications Commission.

ACTION: Petitions for reconsideration.

SUMMARY: Petitions for Reconsideration (Petitions) have been filed in the Commission's rulemaking proceeding by Joseph A. Godles, on behalf of Iridium Constellation LLC et al., Brian D. Weimer, on behalf of WorldVu Satellites Limited, and John P. Janka, on behalf of Viasat, Inc.

DATES: Oppositions to the Petitions must be filed on or before February 20, 2018. Replies to an opposition must be filed on or before March 2, 2018.

ADDRESSES: Federal Communications Commission, 445 12th Street SW, Washington, DC 20554.

FOR FURTHER INFORMATION CONTACT: Clay DeCell, 202-418-0803, Clay.DeCell@fcc.gov.

SUPPLEMENTARY INFORMATION: This is a summary of the Commission's document, Report No. 3084, released January 26, 2018. The full text of the Petitions is available for viewing and copying at the FCC Reference Information Center, 445 12th Street SW, Room CY-A257, Washington, DC 20554. They also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Update to Parts 2 and 25 Concerning Non-Geostationary, Fixed-Satellite Service Systems and Related Matters, FCC 17-122, published at 82 FR 59972, December 18, 2017. This document is being published pursuant to 47 CFR 1.429(e). See also 47 CFR 1.4(b)(1) and 1.429(f), (g).

Number of Petitions Filed: 3.

Federal Communications Commission.
Marlene H. Dortch,
Office of the Secretary, Office of Managing Director.

[FR Doc. 2018-02195 Filed 2-2-18; 8:45 am]

BILLING CODE 6712-01-P